DEPARTMENT OF TRANSPORTATION

Office of the Secretary

Aviation Proceedings, Agreements Filed During the Week Ending March 31, 2000

The following Agreements were filed with the Department of Transportation under the provisions of 49 Sections U.S.C. 412 and 414. Answers may be filed within 21 days after the filing of the application.

Docket Number: OST-2000-7161.

Date Filed: March 29, 2000.

Parties: Members of the International Air Transport Association.

Subject: PTC3 0424 dated 28 March 2000; Mail Vote 073—Resolution 063dd; TC3 Restricted Economy Class Fares from Japan to Korea.

Intended effective date: April 15, 2000.

Andrea M. Jenkins,
Federal Register Liaison.

[FR Doc. 00-11160 Filed 5-3-00; 8:45 am]

BILLING CODE 4910-62-P